DEPARTMENT OF AGRICULTURE

Forest Service

Blacksmith Ecological Restoration Project, Eldorado National Forest, Placer and El Dorado Counties, CA

AGENCY: Forest Service, USDA.

ACTION: Notice of intent to prepare an environmental impact statement.

SUMMARY: The USDA, Forest Service, Eldorado National Forest will prepare an Environmental Impact Statement (EIS) for a proposal to treat approximately 6,970 acres of National Forest System land. The purpose of the project is to: (1) Protect, increase and perpetuate old forest ecosystem habitat components and conserve their associated wildlife species; (2) strategically reduce fuel loads to modify landscape fire behavior; (3) restore a composition of tree species and size classes that are likely to be more sustainable into the future; (4) improve access and reduce resource damage through improvements to the forest transportation system; and (5) treat hazardous fuels and implement forest health improvements in a cost-effective manner to ensure sufficient treatments occur to meet project objectives and to support the retention of local industrial infrastructure. The project area is situated on the Georgetown Ranger District northeast of Georgetown, CA in the vicinity of Ralston Ridge and Nevada Point Ridge, between the Middle Fork of the American River and the Rubicon River. The focus of each treatment is based on the desired quality of each treatment area after management rather than the quantity or quality of the products removed from each area. The Proposed Action consists of commercial and non-commercial tree thinning with follow-up tractor piling or mastication; mastication of select, existing plantations with a follow-up treatment of herbicides to reduce brush competition and fuel buildup; the planting of conifers in expanded canopy gaps with a follow-up treatment of herbicide; prescribed burning, and associated roadwork.

DATES: Comments concerning the scope of the analysis should be received by November 30, 2012. The draft environmental impact statement is expected March 2013 and the final environmental impact statement is expected October 2013.

ADDRESSES: Send written comments to 7600 Wentworth Springs Rd., Georgetown, CA 95634 Attention: Blacksmith Ecological Restoration Project. Comments may also be sent via email to comments-pacificsouthwest-eldorado-georgetown@fs.fed.us, or via facsimile to 530-333-5522.

FOR FURTHER INFORMATION CONTACT: Dana Walsh, Project Leader, Georgetown Ranger District, 7600 Wentworth Springs Rd., Georgetown, CA 95634, or by telephone at 530-333-4312.

Individuals who use telecommunication devices for the deaf (TDD) may call the Federal Information Relay Service (FIRS) at 1-800-877-8339 between 8 a.m. and 8 p.m., Eastern Time, Monday through Friday.

SUPPLEMENTARY INFORMATION:

Purpose and Need for Action

(1) Protect, increase and perpetuate old forest ecosystem habitat components and conserve their associated wildlife species.

(2) Strategically reduce fuel loads to modify landscape fire behavior.

(3) Restore a composition of tree species and size classes that are likely to be more sustainable into the future.

(4) Improve access and reduce resource damage through improvements to the forest transportation system.

(5) Treat hazardous fuels and implement forest health improvements in a cost-effective manner to ensure sufficient treatments occur to meet project objectives and to support the retention of local industrial infrastructure.

Proposed Action

The Proposed Action includes a combination of fuels reduction and forest health improvement actions designed to move stands toward the Desired Future Condition for the land allocation described in the Final Supplemental Environmental Impact Statement (FSEIS) for the Sierra Nevada Forest Plan Amendment dated 1/21/2004 on approximately 6,968 acres of National Forest System land on the Eldorado National Forest in Placer County and El Dorado Counties, California. The Proposed Action has been developed based on collaborative efforts during project development, and activities have been selected and designed based on a desire to balance treatment needs with the potential risks of treatments to occupancy and reproduction in individual California spotted owl territories.

• Approximately 2,519 acres are proposed for mechanical thinning with the cutting and removal of select commercial and non-commercial size trees using a combination of variable density thinning and thinning from below to maintain or increase within-stand heterogeneity while reducing ladder fuels in strategic locations and where machinery can effectively and efficiently achieve project objectives. Commercial timber removed from this project would be scaled or weighed for payment purposes.

Thinning would be performed using a combination of ground based and skyline systems. Ground based whole tree logging system would be used to thin approximately 2,462 acres on slopes generally less than 35%. A skyline system would be used to thin approximately 57 acres of treatment units with slopes generally greater than 35%. Units identified for thinning using skyline systems would include harvest on slopes generally less than 50% with mechanical equipment to cut and bunch thinned trees. Hand falling would be used in areas with slopes generally steeper than 50%. Removal of trees ≥30″ dbh would not occur, except to allow for equipment operability or safety.

Biomass accumulated on landings could be disposed of in a number of ways, including on-site burning, commercial and personal use firewood, or used as co-generation fuel.

• Tractor pile or grapple pile activities would treat brush, slash and downed woody debris. Piling intensity would vary by slope with north slopes piled less intensively than south slopes. Tractor piling with follow-up prescribed burning is proposed on up to 2,093 acres as a follow-up treatment and 8 acres as the initial treatment.

• Mastication of competing vegetation is proposed as the follow-up treatment on approximately 279 acres and as the initial treatment on approximately 478 acres of plantation stands. This activity would treat brush, shrubs, slash, and small trees by mulching the material into fine chips. Approximately 5-20% of the area of these stands would not be treated in order to provide habitat diversity by leaving concentrations of trees or bush scattered at various locations within the treatment area.

• Mastication in 246 acres of plantations with re-sprouting brush species would have follow-up herbicide application if brush cover returns at greater than 30% following initial treatment. Depending on treatment timing and brush size, initial treatment as mastication could be converted to initial treatment with herbicide in approximately 118 acres of plantation established after the Ralston Fire. Herbicides would also potentially be applied to reduce brush competition in planted areas.

A ground based foliar application of glyphosate (Rodeo or equivalent) would be used when the plants are actively growing at a rate of 4 lbs. a.e. per acre. Glyphosate would be applied as a mixture with Hasten added as a surfactant and Hi-light blue added as a marker dye.

• A combination of hand treatment and prescribed burning is proposed on 213 acres of sensitive sites to reduce fuel loadings, and areas with mostly non-commercial removal that is best suited to lop and scatter.

• Planting of ponderosa and sugar pine would occur to restore pine in areas that have a high concentration of white fir mortality from Annosus root rot. Planting is also proposed for an area which was burned at stand-replacing intensities in the Long Fire and has since converted to deer brush.

• Pile burning and under burning are the two primary techniques of prescribed fire proposed in this project. Prescribed burning is proposed as a follow-up treatment on 6,843. Prescribed burning is proposed as the initial treatment or primary treatment for this project on 3,477 acres where land allocations, environmental constraints, or stand conditions make prescribed fire the preferred tool to achieve treatment objectives.

All proposed fire treatment areas would be ignited using ground based firing except the north eastern portion of unit 5, above the Rubicon River. In this unit, several hundred acres would be ignited through aerial firing techniques using a plastic sphere dispenser (PSD).

In preparation for prescribed fire, perimeter line construction would be needed where roads, trails, or natural barriers are absent. This may involve hand cutting of vegetation including trees up to 6-inch diameter, pruning, and scraping a bare soil line, or line construction with a D-6 or smaller dozer.

Treatments proposed for initial prescribe burn treatments may have 2-3 follow-up prescribed fire treatments to achieve objectives for reduced surface and latter fuels. These follow-up treatments would occur typically in 5 to 7 year intervals after initial treatment.

• 2 miles of new road construction are proposed in order to facilitate the treatment activities. Roads will not be designed for public use.

• Road reconstruction to facilitate treatments and to improve water quality through installation of Best Management Practices (BMPs) is proposed on approximately 36 miles of existing roads. Reconstruction activities include: road rocking, replacement of inadequate drainage crossings, cutting or trimming of trees and brush for sight distance improvement, elimination of ruts, gate or barrier installation to control seasonal use or replacement of existing non-functional gates or barriers, ditch repair, and installation of waterbars and dips on roads with inadequate runoff control.

• Within the project area, routes that are not designated routes identified in the Eldorado National Forest Public Wheeled Motorized Travel Management Final Environmental Impact Statement (FEIS) (2008), are candidates for closure and restoration. Non-System Routes (NSRs) include old skid roads, old temporary roads, trails, and unauthorized off highway vehicle trails. NSRs within identified units of either commercial or non-commercial treatments may be eliminated or closed by a variety of methods including, but not limited to: covering with brush, ripping, re-contouring barricading with use of gates or natural material, or a combination of the above in order to restore ecological function to the area.

Responsible Official

Forest Supervisor, Eldorado National Forest.

Nature of Decision To Be Made

The decision to be made is whether to adopt and implement the proposed action, an alternative to the proposed action, or take no action to improve forest health, and to reduce fuels.

Permits or Licenses Required

At this time, there is uncertainty whether a National Pollution Discharge Elimination System (NPDES) permit would be required for stormwater discharges from logging roads associated with this project. Currently, the Environmental Protection Agency is not requiring agencies to obtain NPDES permits for stormwater discharges from logging roads and on September 4, 2012, the EPA proposed revisions to its Phase I stormwater regulations to clarify that stormwater discharges from logging roads do not constitute stormwater discharges associated with industrial activity and that a NPDES permit is not required (Federal Register/Vol. 77, No. 171—pp. 53834-53838). Pending the outcome of this rulemaking and any associated legal challenges, a NPDES could be required at a later date.

Scoping Process

This notice of intent initiates the scoping process, which guides the development of the environmental impact statement. To facilitate public participation, information about the proposed action will be mailed to all who express interest in the Proposed Action.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: October 15, 2012.
Kathryn D. Hardy,
Forest Supervisor.

[FR Doc. 2012-26276 Filed 10-24-12; 8:45 am]

BILLING CODE 3410-11-P